DEPARTMENT OF TRANSPORTATION

Office of the Secretary

14 CFR Part 250

[Docket No. OST-96-1255]

RIN 2105-AC45

Oversales Signs

AGENCY: Office of the Secretary (OST), (DOT).

ACTION: Final rule.

SUMMARY: This document amends the regulation on oversales by changing the reference to an outdated legal authority and other language because of several new statutory provisions. This action also makes certain other editorial changes.

EFFECTIVE DATE: October 8, 2003.

ADDRESSES: You may obtain a copy of this notice from the DOT public docket through the Internet at http://dms.dot.gov, docket number OST-96-1255.

You may also review the public docket in person in the Docket office between 9 a.m. and 5 p.m., Monday through Friday, except Federal holidays. The Docket office is on the plaza level of the Department of Transportation. Additionally, you may obtain a copy of this document from the Federal Register Web site at http://www.gpoaccess.gov/fr/index.html.

FOR FURTHER INFORMATION CONTACT: Tim Kelly, Aviation Consumer Protection Division, Office of Aviation Enforcement and Proceedings, Office of the General Counsel, Department of Transportation, 400 Seventh Street, SW., Room 4107, Washington, DC 20590, telephone (202) 366-5952, e-mail tim.kelly@ost.dot.gov.

SUPPLEMENTARY INFORMATION:

Background

On June 3, 1996, the Department of Transportation published a Notice of Proposed Rulemaking (61 FR 27818) that proposed to eliminate the Department's requirement (pursuant to 14 CFR part 250) that a consumer notice about airline oversales appear on signs at airports, city ticket offices, and travel agencies. The basis for the NPRM was that the information would continue to be available through other means. This NPRM also proposed certain updates to the Department's oversales rule to reflect the recodification of statutory provisions and the Department's acquisition of responsibility for this rule from the Civil Aeronautics Board.

The Department received two comments in response to the NPRM. Southwest Airlines supported the proposal to eliminate the oversales sign. Southwest also concurred in one particular element of the proposal which would require “ticketless” carriers (i.e., airlines that use electronic ticketing as opposed to conventional paper tickets) to continue to post the oversales sign if the carrier does not distribute the oversales notice in writing to every passenger as is required for passengers with paper tickets. The American Society of Travel Agents opposed the Department's proposal; it stated that signs are a more efficient method of communicating the oversales information than individual notices. ASTA asserted that the Department should keep the sign requirement and eliminate the requirement for individual ticket notices.

A major basis for the Department's proposal was the fact that the oversales rule requires that oversales information to assist consumers must appear both on signs and on a notice that is to accompany every ticket. Due to the significant growth of electronic ticketing in the period since this proposal was issued, the Department cannot rely to the same extent on advance distribution of the oversales ticket notice. Indeed, in 1997 (62 FR 19473) the Department issued a Statement of Compliance Policy in which it afforded additional flexibility to carriers in distributing ticket notices to electronically ticketed passengers.

Therefore, based on the above discussion, we have decided not to eliminate the requirement for an oversales airport sign at this time. Additionally, it is our decision that ASTA's proposal to eliminate ticket notices is beyond the scope of this proceeding. However, in this final rule, we will finalize the administrative updates of Part 250 that were proposed in the NPRM (e.g., statutory references) by amending certain terms to more accurately reflect current law.

Regulatory Analyses and Notices

This final rule is not considered a significant regulatory action under section 3(f) of Executive Order 12866 and, therefore, it was not reviewed by the Office of Management and Budget. This rule is not considered significant under the Department's regulatory policies and procedures. This rule only makes editorial changes, and updates reference to a legal authority and other language because of several statutory changes.

The Department also has determined that the economic impact of the rule is so minimal that no further analysis is necessary. This rule does not impose unfunded mandates or requirements that will have any impact on the quality of the human environment.

Executive Order 13132

The Department has analyzed this rule under the principles and criteria contained in Executive Order 13132 (“Federalism”) and has determined that the rule does not have sufficient federalism implications to warrant the preparation of a Federalism Assessment.

Paperwork Reduction Act

This action does not contain information collection requirements for purposes of the Paperwork Reduction Act of 1995.

Regulatory Flexibility Act

The Department has evaluated the effects of this rule on small entities. I certify this rule will not have a significant economic impact on a substantial number of small entities, because we are merely making editorial changes and updating references to a legal authority and other language because of several statutory changes.

List of Subjects in 14 CFR Part 250

Air carriers, Consumer protection, Reporting and recordkeeping requirements.

For the reasons set forth in the preamble, the Department amends 14 CFR part 250 as follows:

PART 250—OVERSALES

1. The authority citation for part 250 continues to read as follows:

Authority: 49 U.S.C. 401, 411, 413, and 417.

2. In 14 CFR 250.1, the definition of “Carrier” is revised to read as follows:

§ 250.1 Definitions.

* * * * *

Carrier means: (1) A direct air carrier, except a helicopter operator, holding a certificate issued by the Department of Transportation pursuant to 49 U.S.C. 41102 (formerly sections 401(d)(1), 401(d)(2), 401(d)(5) and 401(d)(8) of the Federal Aviation Act of 1958), or an exemption from 49 U.S.C. 41101 (formerly section 401(a) of the Act), authorizing the transportation of persons, or

(2) A foreign route air carrier holding a permit issued by the Department pursuant to 49 U.S.C. 41301 through 41306 (formerly section 402 of the Act), or an exemption from the appropriate provision of 49 U.S.C. 41301 through 41306, authorizing the scheduled foreign air transportation of persons.

* * * * *

3. In § 250.2, the words “or overseas” are removed.

4. In § 250.2b(b), in the last sentence, the word “Board” is removed and the term “DOT” is added in its place.

5. In § 250.5(a), in the last sentence, the words “and overseas” are removed.

6. In § 250.9(b), in the subsection entitled Compensation for Denied Boarding, in the second sentence, the phrase “Civil Aeronautics Board” is removed and the phrase “Department of Transportation” is added in its place, and in the subsection entitled Amount of Denied Boarding Compensation, in the second paragraph, the phrase “the CAB” is removed and the term “DOT” is added in its place.

Issued this 19th day of August, 2003 at Washington DC.
Norman Y. Mineta,
Secretary of Transportation.

[FR Doc. 03-22093 Filed 9-5-03; 8:45 am]

BILLING CODE 4910-62-P